DEPARTMENT OF COMMERCE

National Oceanic and Atmospheric Administration

[I.D. 081105C]

Pacific Fishery Management Council; Ad Hoc Groundfish Habitat Technical Review Committee Meeting

AGENCY: National Marine Fisheries Service (NMFS), National Oceanic and Atmospheric Administration (NOAA), Commerce.

ACTION: Notice of public meetings.

SUMMARY: The Pacific Fishery Management Council's (Council) Ad Hoc Groundfish Habitat Technical Review Committee will hold a working meeting on September 8-9. The meeting is open to the public.

DATES: The Ad Hoc Groundfish Habitat Technical Review Committee working meeting will begin Thursday, September 8 at 8 a.m. and may go into the evening or until business for the day is completed. The meeting will reconvene from 8 a.m. to 4 p.m. Friday, September 9.

ADDRESSES: The meetings will be at the following address: DoubleTree Hotel Seattle Airport, Cascade 13, 18740 International Blvd., Seattle, WA 98188; telephone 206-246-8600.

Council address: Pacific Fishery Management Council, 7700 NE Ambassador Place, Suite 200, Portland, OR 97220-1384.

FOR FURTHER INFORMATION CONTACT: Dr. Christopher Dahl, NEPA Specialist, 503-820-2280.

SUPPLEMENTARY INFORMATION: The purpose of the Ad Hoc Groundfish Habitat Technical Review Committee meeting is to provide a technical review of the habitat suitability data used to support alternatives and analyses in the Pacific Coast Groundfish Fishery Management Plan Essential Fish Habitat Designation and Minimization of Adverse Impacts Final Environmental Impact Statement, currently in preparation by National Marine Fisheries Service. By holding a public meeting, the committee will provide opportunity for public participation in the review process. The committee will only consider technical and scientific questions and will not engage in policy discussions as part of its mission.

Special Accommodations

The meetings are physically accessible to people with disabilities. Requests for sign language interpretation or other auxiliary aids should be directed to Ms. Carolyn Porter at 503-820-2280 at least 7 days prior to the meeting date.

Dated: August 15, 2005.
Alan D. Risenhoover,
Acting Director, Office of Sustainable Fisheries, National Marine Fisheries Service.

[FR Doc. E5-4511 Filed 8-17-05; 8:45 am]

BILLING CODE 3510-22-S